DEPARTMENT OF HOUSING AND URBAN DEVELOPMENT

[Docket No. FR-5841-N-02]

60-Day Notice of Proposed Information Collection: Core Performance Reporting Requirements for Competitively-Funded Grants

AGENCY: Office of the Deputy Secretary, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 9, 2015.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone number 202-402-3400 (this is not a toll-free number) or email at Colette.Pollard@hud.gov. Copies of the proposed forms and other information are available by contacting Ms. Pollard. Persons with hearing or speech impairments may access this number through TTY by calling the toll-free Federal Relay Service at (800) 877-8339.

FOR FURTHER INFORMATION CONTACT: Colette Pollard, Reports Management Officer, QDAM, Department of Housing and Urban Development, 451 7th Street SW., Washington, DC 20410; email Colette Pollard at Colette.Pollard@hud.gov or by telephone at 202-402-3400. This is not a toll-free number. Persons with hearing or speech impairments may access this number through TTY by calling the toll-free Federal Relay Service at (800) 877-8339. Requests for copies of the proposed forms should be submitted to Ms. Pollard.

SUPPLEMENTARY INFORMATION: This notice informs the public that HUD is seeking approval from OMB for the information collection described in Section A.

A. Overview of Information Collection

Title of Information Collection: Core Performance Reporting for Competitively-Funded Grants.

OMB Approval Number: Pending.

Type of Request: Regular.

Type of Information Collection: New.

Form Numbers: HUD-PRL, HUD-CIRL, HUD-GF.

Description of the need for the information and proposed use:

This request is for the clearance of data collection and reporting requirements to enable the U.S. Department of Housing and Urban Development (HUD) Office of Strategic Planning and Management (OSPM) to better assess the effectiveness of competitively-funded grants included in this information collection request (ICR). The competitively-funded grant programs included in this ICR are: Community Development Block Grant Program for Indian Tribes and Alaska Native Villages (ICDBG), Family Self-Sufficiency Program (FSS), Housing Counseling (HC), Housing Opportunities for Persons with AIDS (HOPWA), JobsPlus Program (Jobs+), Juvenile Reentry Assistance Program (JRAP), Lead-Based Paint Hazard Control (LBPHC), Lead Hazard Reduction Demonstration (LHRD), Self-Help Homeownership Opportunity Program (SHOP), Supportive Services Demonstration Program (202), and Resident Opportunity and Self Sufficiency Service Coordinators Program (ROSS).

A key component of this proposed collection is the reporting of measureable outcomes. Additionally, the standardization of data collection and reporting requirements across the Department will increase data comparability and utilization. Consolidation of de-identified data drawn from pre-existing HUD systems and databases, as applicable, into a single repository will enhance the Department's comprehensive and comparative analysis of competitively-funded HUD programs. Data submission will be acceptable via Comma Separated Values (CSV), Extensible Markup Language (XML), and other file formats in addition to direct data entry into an online web form.

The Department has several reporting models in place for competitive grant programs, including the eLogic Model. The reporting models provide information on a wide variety of outputs and outcomes and are based on unique data definitions and outcome measures in program-specific performance and progress reports. In Federal Fiscal Year 2013, nine program offices at HUD used six systems and 15 reporting tools to collect over 700 data elements in support of varied metrics to assess the performance of competitively-funded. The proposed data collection and reporting requirements described in this notice are designed to replace the use of the eLogic Model and other report forms and requirements.

The lack of standardized data collection and reporting requirements imposes an increased burden on grantees with multiple grant awards from HUD. The need for a comprehensive and standardized reporting approach is underscored by reviews conducted by external oversight agencies, including the Department's Office of Inspector General (OIG) and the Government Accountability Office (GAO). These oversight agencies have questioned the validity and comparability of data reported by the Department. To address these issues, the Department is using its statutory and regulatory authority to redesign and strengthen performance reporting for many of its competitive grant programs into a single comprehensive approach.

The Secretary's statutory and regulatory authority to administer housing and urban development programs include provisions allowing for the requirement of performance reporting from grantees. This legal authority is codified at 42 U.S.C. 3535(r). The individual privacy of service recipients is of the highest priority. The reporting repository established at HUD to receive data submission from grantees will not include any personally identifying information (PII). Additionally, if the data for a grant has 25 or fewer individuals served during a fiscal year as reported in the record-level reports, then the results for the demographic data elements for the 25 or fewer individuals will also be redacted or removed from the public-use data file and any publicly available analytical products in order to ensure the inability to identify any individual.

Eligible entities awarded grants by the Department are expected to implement the proposed recordkeeping and reporting requirements with available grant funds. It is important to note that much of the data to be reported by grantees under this ICR is already required and reported to one or more program offices at HUD. Furthermore, generally only a subset of the universe of data elements presented will be submitted as data collection and reporting requirements are determined by the program office and include consideration of the type and level of service provided by the respective grant programs.

The reporting requirements in this proposal better organize the data already being collected, standardize outcomes and performance measures, and allow program offices at HUD to select which data elements and performance indicators are relevant for their respective programs. Documents detailing the data elements, performance indicators, and draft online data entry forms are available for review by request from Colette Pollard (Colette.Pollard@hud.gov). All information reported to HUD will be submitted electronically. Recipients or grantees may use existing management information systems provided those systems collect all of the required data elements and can be exported for submission to HUD. Recipients or grantees that sub-grant funds to other organizations will need to collect the required information from their sub-recipients or sub-grantees.

Information collected and reported will be used by recipients or grantees and the Department for the following purposes:

• To provide program and performance information to recipients, general public, Congress, and other stakeholders;

• To continuously improve the quality, effectiveness, and efficiency of grant-funded programs;

• To provide management information for use by the Department in program administration and oversight, including the monitoring of grant-specific participation, services, capital investments, and outcomes; and

• To better measure and analyze performance information to identify successful practices to be replicated and prevent or correct problematic practices and improve outcomes in compliance with the Government Performance and Results Act (GPRA) and the GPRA Modernization Act.

The data collection and reporting requirements will be phased in over a three-year period which includes a proof of concept pilot in FY16. The Department will provide technical assistance to recipients or grantees throughout the implementation.

Respondents (i.e. affected public): Organizations awarded competitively-funded grants as listed on page 2.

Annual Burden Estimate for the Requested Reporting Approach Initial Year or Proof of Concept Pilot Project
Type of record | Number of respondents | Submission frequency | Hourly rate ¹ | Average number of minutes | Estimated annual burden hours | Estimated annual burden dollars
Participant Record-level | 63 grantees ² | 1 | $14.19 | 20 Per Record | 2,583 | $36,653
Capital Investment Record-level | 7 grantees ³ | 1 | 14.19 | 15 Per Record | 7 | 99
Grant Feedback | 70 grantees | 2 | 14.19 | 15 | 35 | 497
Total |  |  | 14.19 |  | 2,625 | 37,249
¹ The hourly rate of $14.19 is the average wage for office and administrative support occupations as reported in the May 2014 Occupational Employment and Wages produced by the U.S. Department of Labor, Bureau of Labor Statistics.
² There are an estimated 7,749 individuals to be served by the 63 grantees.
³ There are an estimated 28 project-level records for the 7 grantees.

Annual Burden Estimate for the Requested Reporting Approach Second and Subsequent Years
Type of record | Number of respondents | Submission frequency | Hourly rate ¹ | Average number of minutes | Estimated annual burden hours | Estimated annual burden dollars
Participant Record-level | 2,850 grantees ² | 1 | $14.19 | 20 Per Record | 116,850 | $1,658,102
Capital Investment Record-level | 150 grantees ³ | 1 | 14.19 | 15 Per Record | 150 | 2,129
Grant Feedback | 3,000 grantees | 2 | 14.19 | 15 | 1,500 | 21,285
Total |  |  | 14.19 |  | 118,500 | 1,681,516
¹ The hourly rate of $14.19 is the average wage for office and administrative support occupations as reported in the May 2014 Occupational Employment and Wages produced by the U.S. Department of Labor, Bureau of Labor Statistics.
² There are an estimated 351,000 individuals to be served by the 2,850 grantees.
³ There are an estimated 600 project-level records for the 150 grantees.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comments in response to these questions.

Authority: Section 3507 of the Paperwork Reduction Act of 1995, 44 U.S.C. Chapter 35.

Dated: September 1, 2015.
Henry Hensley,
Acting Director, Office of Strategic Planning and Management.

[FR Doc. 2015-22758 Filed 9-9-15; 8:45 am]

BILLING CODE 4210-67-P